GENERAL SERVICES ADMINISTRATION

[OMB Control No. 3090-0297; Docket No. 2012-0001; Sequence 26]

Submission for OMB Review; Proposed Collection; Comment Request; General Services Administration Acquisition Regulation; Generic Clearance for the Collection of Qualitative Feedback on Agency Service Delivery (GSA)

AGENCY: General Services Administration (GSA).

ACTION: Notice of a request for comments regarding an existing information collection.

SUMMARY: As part of a Federal Government wide effort to streamline the process to seek feedback from the public on service delivery, the General Services Administration (GSA) will be submitting a renewal to the Generic Information Collection Request (Generic ICR): “Generic Clearance for the Collection of Qualitative Feedback on Agency Service Delivery” to OMB for approval under the Paperwork Reduction Act (PRA). A notice was published in the Federal Register at 77 FR 74191, on December 13, 2012. Two comments were received.

DATES: Submit comments on or before May 13, 2013.

ADDRESSES: Submit comments identified by Information Collection 3090-0297, Generic Clearance for the Collection of Qualitative Feedback on Agency Service Delivery, by any of the following methods:

• Regulations.gov: http://www.regulations.gov. Submit comments via the Federal eRulemaking portal by searching for “Information Collection 3090-0297”, Generic Clearance for the Collection of Qualitative Feedback on Agency Service Delivery. Select the link “Submit a Comment” that corresponds with “Information Collection 3090-0297”, Generic Clearance for the Collection of Qualitative Feedback on Agency Service Delivery. Follow the instructions provided at the “Submit a Comment” screen. Please include your name, company name (if any), and “Information Collection 3090-0297” on your attached document.

• Mail: General Services Administration, Regulatory Secretariat (MVCB), 1275 First Street NE., Washington, DC 20417. Attn: Hada Flowers/IC 3090-0297, Generic Clearance.

Instructions: Please submit comments only and cite Information Collection 3090-0297, Generic Clearance for the Collection of Qualitative Feedback on Agency Service Delivery, in all correspondence related to this collection. All comments received will be posted without change to http://www.regulations.gov, including any personal and/or business confidential information provided.

FOR FURTHER INFORMATION CONTACT: To request additional information, please contact General Services Administration, Regulatory Secretariat Division (MVCB), 1275 First Street NE., Washington, DC 20417; telephone (202) 501-4755.

SUPPLEMENTARY INFORMATION:

A. Purpose

Title: Generic Clearance for the Collection of Qualitative Feedback on Agency Service Delivery

Abstract: The information collection activity will garner qualitative customer and stakeholder feedback in an efficient, timely manner, in accordance with the Administration's commitment to improving service delivery. By qualitative feedback we mean information that provides useful insights on perceptions and opinions, but are not statistical surveys that yield quantitative results that can be generalized to the population of study. This feedback will provide insights into customer or stakeholder perceptions, experiences and expectations, provide an early warning of issues with service, or focus attention on areas where communication, training or changes in operations might improve delivery of products or services. These collections will allow for ongoing, collaborative and actionable communications between the Agency and its customers and stakeholders. It will also allow feedback to contribute directly to the improvement of program management.

Feedback collected under this generic clearance will provide useful information, but it will not yield data that can be generalized to the overall population. This type of generic clearance for qualitative information will not be used for quantitative information collections that are designed to yield reliably actionable results, such as monitoring trends over time or documenting program performance. Such data uses require more rigorous designs that address: The target population to which generalizations will be made, the sampling frame, the sample design (including stratification and clustering), the precision requirements or power calculations that justify the proposed sample size, the expected response rate, methods for assessing potential non-response bias, the protocols for data collection, and any testing procedures that were or will be undertaken prior fielding the study. Depending on the degree of influence the results are likely to have, such collections may still be eligible for submission for other generic mechanisms that are designed to yield quantitative results.

The Digital Government Strategy released by the White House in May 2012 drives agencies to have a more customer-centric focus. Because of this, GSA anticipates an increase in requests to use this generic clearance as the plan states that: A customer-centric principle charges us to do several things: Conduct research to understand the customer's business, needs and desires; “make content more broadly available and accessible and present it through multiple channels in a program- and device-agnostic way; make content more accurate and understandable by maintaining plain language and content freshness standards; and offer easy paths for feedback to ensure we continually improve service delivery. The customer-centric principle holds true whether our customers are internal (e.g., the civilian and military federal workforce in both classified and unclassified environments) or external (e.g., individual citizens, businesses, research organizations, and state, local, and tribal governments).”

B. Discussion and Analysis

A notice was published in the Federal Register at 77 FR 74191 on December 13, 2012. Two respondents submitted public comments on the extension of the previously approved information collection. One comment was not in scope of this collection. The analysis of the public comments is summarized as follows:

Comment: The respondent commented that the extension of the information collection would violate the fundamental purposes of the Paperwork Reduction Act because of the burden it puts on the entity submitting the information and the agency collecting the information.

Response: In accordance with the Paperwork Reduction Act (PRA), agencies can request OMB approval of an existing information collection. The PRA requires that agencies use the Federal Register notice and comment process, to extend OMB's approval, at least every three years. This extension, to a previously approved information collection, pertains to a Paperwork Reduction Act Generic Clearance (also known as Fast Track Process). Generic Clearance Information Collection Requests (ICRs) provide a significantly streamlined process by which agencies may obtain OMB's approval for particular information collections—voluntary, low-burden, and uncontroversial collections. Generic ICRs are a useful way for agencies to meet the obligations of the Paperwork Reduction Act of 1995 while eliminating unnecessary burdens and delays. They can be used for a number of information collections, including methodological testing, customer satisfaction surveys, focus groups, contests, and Web site satisfaction surveys. Therefore the extension of this information collection actually serves the purpose of reducing the burden on the entity submitting the information and the agency collecting the information.

Comment: The respondent commented that the agency did not accurately estimate the public burden an extension of the information collection requirement would create, and that the agency's methodology for calculating it is insufficient and does not reflect the total burden. The respondent indicated that the Agency's estimate of 145,534 respondents, average burden estimate of 3.82 minutes, and the total burden hours estimated by the Agency of 9,314 appear understated.

Response: Serious consideration is given, during the open comment period, to all comments received and adjustments are made to the paperwork burden estimate based on considerations provided by the public. The burden is prepared taking into consideration the necessary criteria in OMB guidance for estimating the paperwork burden put on the entity submitting the information. Specific to the approved use of a generic clearance, the collections are low-burden for respondents (based on considerations of total burden hours, total number of respondents, or burden-hours per respondent) and are low-cost for both the respondents and the Federal Government. If this among other conditions is not met, the Agency will submit an information collection request to OMB for approval through the normal PRA process. Careful consideration went into assessing the estimated burden hours for this collection, and it is determined that an upward adjustment is not required at this time.

Comment: The respondent commented that the collective burden of compliance with information collection requirement greatly exceeds the agency's estimate and outweighs any potential utility of the extension.

Response: The Paperwork Reduction Act (PRA) was designed to improve the quality and use of Federal information to strengthen decision-making, accountability, and openness in government and society. A key criteria for using the Fast Track Process for data collection is when participation by respondents is voluntary, not mandatory. The collective burden does not outweigh the utility of the extension.

Comment: The respondent commented that the government's response to the Paperwork Reduction Act Waiver of FAR case 2009 is instructive on the total burden for respondents.

Response: The details of that particular FAR case are not specifically relevant to this notice.

C. Annual Reporting Burden

Below we provide GSA's projected average estimates for the next three years:

Affected Public: Individuals and households, businesses and organizations, State, Local or Tribal Government.

Average Expected Annual Number of Activities: 48.

Respondents: 145,534.

Annual Responses: 48,511.

Frequency of Response: 1.

Average Minutes per Response: 3.82.

Burden hours: 9,314.

An agency may not conduct or sponsor, and a person is not required to respond to, a collection of information unless it displays a currently valid Office of Management and Budget control number.

Dated: April 5, 2013.
Casey Coleman,
Chief Information Officer.

[FR Doc. 2013-08656 Filed 4-11-13; 8:45 am]

BILLING CODE 6820-14-P